FEDERAL COMMUNICATIONS COMMISSION

[EB Docket No. 07-13; DA No. 07-377]

David L. Titus, Amateur Radio Operator and Licensee of Amateur Radio Station KB7ILD

AGENCY: Federal Communications Commission.

ACTION: Notice.

SUMMARY: This document commences a hearing by directing David L. Titus to show cause in an adjudicatory proceeding before an administrative law judge why his amateur radio operating authority and license for Station KB7ILD should not be revoked on issues relating to his basic qualifications to be and remain a Commission licensee. The hearing will be held at a time and place to be specified in a subsequent order.

DATES: Persons desiring to participate as parties in the hearing (other than David L. Titus, who already is specified as a party in the hearing) shall file a petition for leave to intervene not later than March 16, 2007.

ADDRESSES: Please file documents with the Office of the Secretary, Federal Communications Commission, 445 12th Street, SW., Washington, DC 20554. Each document that is filed in this proceeding must display on the front page the document number of this hearing, “EB Docket No. 07-13.”

FOR FURTHER INFORMATION CONTACT: Gary Schonman, Special Counsel, Enforcement Bureau, (202) 418-1420.

SUPPLEMENTARY INFORMATION: This is a summary of the Commission's Order to Show Cause, DA 07-377, released on January 30, 2007. The full text of the Order to Show Cause is available for inspection and copying from 8 a.m. to 4:30 p.m., Monday through Thursday, or from 8 a.m. to 11:30 a.m. on Friday, at the FCC Reference Information Center, Room CY-A257, 445 12th Street, SW., Washington, DC 20554. The complete text may be purchased from the Commission's copy contractor, Best Copy and Printing, Inc. (BCPI), Portals II, 445 12th Street, SW., Room CY-B402, Washington, DC 20554, telephone 202-488-5300, facsimile 202-488-5563, or you may contact BCPI at its Web site: http://www.BCPIWEB.com. When ordering documents from BCPI, please provide the appropriate document number, DA 07-377. The Order to Show Cause also is available on the Internet at the Commission's Web site through its Electronic Document Management System (EDOCS). The Commission's Internet address for EDOCS is: http://hraunfoss.fcc.gov/edocs_public/SilverStream/Pages/edocs.html. Alternative formats are available to persons with disabilities (Braille, large print, electronic files, audio format). Send an e-mail to fcc504@fcc.gov or call the Consumer and Governmental Affairs Bureau at 202-418-0530 (voice) or 202-418-0432 (TTY).

Summary of the Order To Show Cause

In the Order to Show Cause, the Federal Communications Commission's Enforcement Bureau, pursuant to delegated authority, commences a hearing proceeding before an administrative law judge to determine whether David L. Titus is qualified to be and remain a Commission licensee and, if not, whether his license for Amateur Radio Station KB7ILD should be revoked. Information has come to the Commission's attention that David L. Titus was convicted in Benton County, Washington, on April 16, 1993, of having violated section 9.68A.090 of the Revised Code of Washington, communicating with a minor for immoral purposes, a Class C felony. Titus was sentenced to serve 25 months in prison. In addition, David L. Titus is identified by the Seattle Police Department as a registered sex offender.

David L. Titus' felony conviction for at least one sexual-related offense involving children raises material and substantial questions as to whether he possesses the requisite character qualifications to be and remain a Commission licensee.

Thus, pursuant to 47 U.S.C. 312(a) and (c), the Order to Show Cause directs David L. Titus to show cause why his authorization for Amateur Radio Station KB7ILD should not be revoked, upon the following issues: (a) To determine the effect of David L. Titus' felony conviction(s) on his qualifications to be and to remain a Commission licensee; and (b) to determine, in light of the evidence adduced pursuant to the foregoing issue, whether David L. Titus is qualified to be and to remain a Commission licensee; and (c) to determine, in light of the evidence adduced pursuant to the foregoing issues, whether the license of David L. Titus for Amateur Radio Station KB7ILD should be revoked. The hearing will be held at a time and place to be specified in a subsequent order. Copies of the Order to Show Cause are being sent to David L. Titus via Certified Mail, Return Receipt Requested, and by regular United States mail.

To avail himself of the opportunity to be heard, David L. Titus, in person or by his attorney, is directed by the Order to Show Cause, pursuant to 47 CFR 1.91(c), to file with the Commission, by March 1, 2007, a written appearance stating that he will appear on the date fixed for hearing and present evidence on the issues specified herein.

Federal Communications Commission.
Hillary S. DeNigro,
Chief, Investigations and Hearings Division, Enforcement Bureau.

[FR Doc. E7-2449 Filed 2-13-07; 8:45 am]

BILLING CODE 6712-01-P